DEPARTMENT OF COMMERCE

International Trade Administration

[A-570-932]

Certain Steel Threaded Rod From the People's Republic of China: Final Results of Antidumping Duty Administrative Review and Final Determination of No Shipments; 2016-2017

AGENCY: Enforcement and Compliance, International Trade Administration, Department of Commerce.

SUMMARY: The Department of Commerce (Commerce) finds that Jiaxing Brother Fastener Co., Ltd. (Jiaxing Brother), RMB Fasteners Ltd. (RMB), and IFI & Morgan Ltd. (IFI), collectively RMB/IFI, had no shipments during the period of review (POR), April 1, 2016, through March 31, 2017. We also continue to find that Fastenal Canada Ltd. (Fastenal Canada) did not cooperate to the best of its ability and have based its margin on adverse facts available (AFA) for these final results.

DATES: Applicable November 15, 2018.

FOR FURTHER INFORMATION CONTACT: Paul Walker, AD/CVD Operations, Office V, Enforcement and Compliance, International Trade Administration, U.S. Department of Commerce, 1401 Constitution Avenue NW, Washington, DC 20230; telephone: 202.482.0413.

SUPPLEMENTARY INFORMATION:

Background

On May 17, 2018, Commerce published the Preliminary Results of the antidumping duty order on certain steel threaded rod (STR) from the People's Republic of China (China).¹ In accordance with 19 CFR 351.309, we invited parties to comment on our Preliminary Results. On June 18, 2018, RMB/IFI submitted its case brief.² On June 19, 2018, RMB/IFI re-submitted its case brief because the original brief inadvertently included certain proprietary information in one of the exhibits.³ On June 26, 2018, the petitioner, Vulcan Threaded Products Inc., submitted its rebuttal brief.⁴ On September 12, 2018, Commerce extended the deadline for the final results to November 8, 2018.⁵ On September 19, 2018, Commerce rejected RMB/IFI's case brief because it contained new factual information.⁶ In addition, on September 19, 2018, Commerce rejected the petitioner's rebuttal brief because it contained new argument which did not rebut any arguments made by RMB/IFI in its case brief.⁷ On September 21, 2018, RMB/IFI refiled its case brief.⁸ The petitioner did not refile its rebuttal brief. To complete the administrative record, Commerce requested that Jiaxing Brother submit a no shipments certification, if it had no shipments during the POR.⁹ On October 31, 2018, Jiaxing Brother submitted a no shipments certification.¹⁰

¹ See Certain Steel Threaded Rod from the People's Republic of China: Preliminary Results of the Antidumping Duty Administrative Review, and Rescission of Antidumping Duty Administrative Review; 2016-2017, 83 FR 22945 (May 17, 2018) (Preliminary Results) and accompanying Preliminary Decision Memorandum (PDM).

² See RMB/IFI's June 18, 2018 submission.

³ See RMB/IFI's June 19, 2018 submission.

⁴ The petitioner is Vulcan Threaded Products Inc. See the petitioner's June 26, 2018 submission.

⁵ See Memorandum to James Maeder, Associate Deputy Assistant Secretary, from James C. Doyle, Director, “Certain Steel Threaded Rod from the People's Republic of China: Extension of Deadline for Final Results of 2016-2017 Antidumping Duty Administrative Review,” dated September 12, 2018.

⁶ See Commerce's letter to RMB/IFI dated September 19, 2018.

⁷ See Commerce's letter to the petitioner dated September 19, 2018.

⁸ See RMB/IFI's September 21, 2018 submission (RMB/IFI's Case Brief).

⁹ See Commerce's memo to the File, October 29, 2018.

¹⁰ See RMB/IFI's October 31, 2018 submission.

Commerce conducted this administrative review in accordance with section 751 of the Tariff Act of 1930, as amended (the Act).

Scope of the Order

The merchandise covered by the order includes steel threaded rod. The subject merchandise is currently classifiable under subheading 7318.15.5051, 7318.15.5056, 7318.15.5090, and 7318.15.2095 of the United States Harmonized Tariff Schedule (HTSUS). Although the HTSUS subheadings are provided for convenience and customs purposes, our written description of the scope of the order, which is contained in the accompanying Issues and Decision Memorandum (I&D Memo), is dispositive.¹¹

¹¹ For a full description of the scope of the order, see Memorandum from James Maeder, Associate Deputy Assistant Secretary, to Gary Taverman, Deputy Assistant Secretary for Antidumping and Countervailing Duty Operations, performing the non-exclusive functions and duties of the Assistant Secretary for Enforcement and Compliance, “Certain Steel Threaded Rod from the People's Republic of China: Issues and Decision Memorandum for the Final Results of the Eighth Administrative Review” (I&D Memo), dated concurrently with, and hereby adopted by, this notice.

Analysis of Comments Received

We addressed the issue raised in RMB/IFI's case brief in the I&D Memo dated concurrently with, and hereby adopted by, this notice. The issue it raised is attached in the Appendix to this notice. The I&D Memo is a public document and is on file in the Central Records Unit (CRU), Room B8024 of the main Commerce building, as well as electronically via Enforcement and Compliance's Antidumping and Countervailing Duty Centralized Electronic Service System (ACCESS). ACCESS is available to registered users at http://access.trade.gov and in the CRU. In addition, a complete version of the I&D Memo can be accessed directly on the internet at http://enforcement.trade.gov/frn/index.html. The signed I&D Memo and the electronic versions of the I&D Memo are identical in content.

Final Determination of No Shipments

In the Preliminary Results, Commerce determined that RMB/IFI did not have any reviewable transactions during the POR. For these final results, we continue to find that Jiaxing Brother is a part of RMB/IFI,¹² and that Jiaxing Brother Standard Part Co., Ltd. is a “doing-business-as” name for Jiaxing Brother.¹³ Moreover, consistent with Commerce's assessment practice in non-market economy (NME) cases, we completed the review with respect to RMB/IFI. Based on our analysis of the record information, including CBP information, we continue to determine that RMB/IFI (a single entity that includes Jiaxing Brother Standard Part Co., Ltd./Jiaxing Brother Fastener Co., Ltd.) did not have any shipments during the POR. As noted in the “Assessment Rates” section below, Commerce intends to issue appropriate instructions to CBP for the above-named companies based on the final results of this review.

¹² Commerce determined that Jiaxing Brother, RMB and IFI constituted a single entity in the investigation on steel threaded rod from China. See Certain Steel Threaded Rod from the People's Republic of China: Preliminary Determination of Sales at Less Than Fair Value, 73 FR 58931, 58932 (October 8, 2008), unchanged in Certain Steel Threaded Rod from the People's Republic of China: Final Determination of Sales at Less Than Fair Value, 74 FR 8907 (February 27, 2009). We have received no information in this review to call into question that finding and therefore continue to treat them as a single entity for purposes of this review.

¹³ See, e.g., Certain Steel Threaded Rod From the People's Republic of China: Preliminary Results and Partial Rescission of the Antidumping Duty Administrative Review; 2014-2015, 81 FR 29843 (May 13, 2016) and accompanying PDM at 1, 2, unchanged in Certain Steel Threaded Rod from the People's Republic of China: Final Results of Antidumping Duty Administrative Review; 2014-2015, 81 FR 83800 (November 22, 2016) and accompanying IDM at 2; see also RMB/IFI's October 31, 2018 submission.

Final Results

No interested party submitted comments on Commerce's preliminary determination to apply AFA to Fastenal Canada. Therefore, we have continued to apply AFA with respect to Fastenal Canada, and have continued to assign it an AFA rate of 206.00 percent. Moreover, we continue to find that Brother Holding Group Co. Ltd, and Zhejiang Morgan Brother Technology Co. Ltd. are a part of the China-wide entity and subject to its rate of 206.00 percent.¹⁴ Although in the Preliminary Results we found Jiaxing Brother Standard Part Co., Ltd. to be a part of the China-wide entity, for these final results, and as noted above, we find this company to be a part of RMB/IFI (which had no shipments during the POR), and that it is not a part of the China-wide entity.

¹⁴ The rate for the China-wide entity was set in the investigation, see Certain Steel Threaded Rod from the People's Republic of China: Final Determination of Sales at Less than Fair Value, 74 FR 8907 (February 27, 2009). This rate has been applied in each subsequent administrative review in which there was a party considered as part of the China-wide entity. Commerce's policy regarding conditional review of the China-wide entity applies to this administrative review. See Antidumping Proceedings: Announcement of Change in Department Practice for Respondent Selection in Antidumping Duty Proceedings and Conditional Review of the Nonmarket Economy Entity in NME Antidumping Duty Proceedings, 78 FR 65963 (November 4, 2013). Under this policy, the China-wide entity will not be under review unless a party specifically requests, or Commerce self-initiates, a review of the entity. Because no party requested a review of the China-wide entity, the entity is not under review and the entity's rate is not subject to change.

Assessment Rates

Pursuant to section 751(a)(2)(A) of the Act, and 19 CFR 351.212(b), Commerce has determined, and U.S. Customs and Border Protection (CBP) shall assess, antidumping duties on all appropriate entries of subject merchandise in accordance with the final results of this review. Commerce intends to issue appropriate assessment instructions directly to CBP 15 days after publication of the final results of this administrative review. Commerce will assess duties only on entries of subject merchandise (i.e., Chinese-origin STR).

Pursuant to Commerce's assessment practice, because we found it had no shipments, for all entries claiming RMB/IFI as the exporter or producer, Commerce will direct CBP to liquidate such entries and to assess antidumping duties pursuant to the Reseller Policy, i.e., at the rate for the China-wide entity.¹⁵

¹⁵ See Non-Market Economy Antidumping Proceedings: Assessment of Antidumping Duties, 76 FR 65694 (October 24, 2011) (Reseller Policy).

Cash Deposit Requirements

The following cash deposit requirements will be effective upon publication of the final results of this administrative review for all shipments of the subject merchandise from China entered, or withdrawn from warehouse, for consumption on or after the publication date, as provided for by section 751(a)(2)(C) of the Act: (1) For Fastenal Canada's Chinese-origin merchandise, the cash deposit rate will be 206.00 percent; (2) for previously investigated or reviewed Chinese and non-Chinese exporters not listed above that have separate rates, the cash deposit rate will continue to be the exporter-specific rate published for the most recent period; (3) for all Chinese exporters of subject merchandise which have not been found to be entitled to a separate rate, the cash deposit rate will be the China-wide rate of 206.00 percent; and (4) for all non-Chinese exporters of subject merchandise which have not received their own rate, the cash deposit rate will be the rate applicable to the Chinese exporters that supplied that non-Chinese exporter. These deposit requirements, when imposed, shall remain in effect until further notice.

Disclosure

Normally, Commerce discloses to interested parties the calculations performed in connection with the final results within five days of its public announcement, or if there is no public announcement, within five days of the date of publication of this notice in accordance with 19 CFR 351.224(b). However, because Commerce has not calculated a weighted-average dumping margin for any respondent, there are no calculations to disclose.

Notification to Importers

This notice also serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice also serves as a reminder to parties subject to administrative protective order (APO) of their responsibility concerning the return or destruction of proprietary information disclosed under the APO in accordance with 19 CFR 351.305(a)(3), which continues to govern business proprietary information in this segment of the proceeding. Timely written notification of the return or destruction of APO materials or conversion to judicial protective order is hereby requested. Failure to comply with the regulations and the terms of an APO is a violation subject to sanction.

Notification to Interested Parties

We are issuing and publishing these results in accordance with sections 751(a)(1) and 777(i)(1) of the Act and 19 CFR 351.213(h) and 351.221(b)(5).

Dated: November 7, 2018.
Christian Marsh,
Deputy Assistant Secretary for Enforcement and Compliance.

Appendix

Issues and Decision Memorandum

I. Summary

II. Scope

III. Background

IV. Discussion of the Issue

Comment: Alternative Name for Jiaxing Brother

V. Conclusion

[FR Doc. 2018-24942 Filed 11-14-18; 8:45 am]

BILLING CODE 3510-DS-P